ENVIRONMENTAL PROTECTION AGENCY

[SFUND-2004-0014, FRL-7968-2]

Agency Information Collection Activities: Proposed Collection; Comment Request; The 2005 National Survey of Local Emergency Planning Committees, EPA ICR Number 1903.02, OMB Control Number 2050-0162

AGENCY: Environmental Protection Agency.

ACTION: Notice.

SUMMARY: In compliance with the Paperwork Reduction Act (44 U.S.C. 3501 et seq.), this document announces that EPA is planning to submit a proposed Information Collection Request (ICR) to the Office of Management and Budget (OMB). This is a request for a continuing collection. The prior collection for the 1999 National Survey of Local Emergency Planning Committees expired on June 30, 2002. Before submitting the ICR to OMB for review and approval, EPA is soliciting comments on specific aspects of the proposed information collection as described below.

DATES: Comments must be submitted on or before November 14, 2005.

ADDRESSES: Submit your comments, referencing docket ID number SFUND-2004-0014, to EPA online using EDOCKET (our preferred method), by e-mail to superfund.docket@epa.gov, or by mail to: EPA Docket Center, Environmental Protection Agency, Superfund Docket, Mailcode 5202T, 1200 Pennsylvania Ave., NW., Washington, DC 20460.

FOR FURTHER INFORMATION CONTACT: Kim Jennings, Office of Emergency Management (OEM), OSWER, Mailcode 5104A, Environmental Protection Agency, 1200 Pennsylvania Ave., NW., Washington, DC 20460; telephone number: (202) 564-7998; fax number: (202) 564-8222; e-mail address: jennings.kim@epa.gov.

SUPPLEMENTARY INFORMATION: EPA has established a public docket for this ICR under Docket ID number SFUND-2004-0014, which is available for public viewing at the Superfund Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Superfund Docket is (202) 566-0276. An electronic version of the public docket is available through EPA Dockets (EDOCKET) at http://www.epas.gov/edocket. Use EDOCKET to obtain a copy of the draft collection of information, to submit to view public comments, to access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entitles: Entities potentially affected by this action are those which hold a leadership position on Local Emergency Planning Committees (LEPCs). It is anticipated that the majority of respondents will be LEPC chairs.

Title: National Survey of Local Emergency Planning Committees.

Abstract: The Environmental Protection Agency, Office of Emergency Response (OEM) proposes to conduct a nationwide survey of Local Emergency Planning Committees (LEPCs). The information will be used to assess the general progress, status, and activity level of LEPCs. This collection also addresses reporting requirements under the Government Performance and Results Act (GPRA) of 1993, which stipulates that agencies focus on evaluating their program activities in terms of outputs and outcomes. This ICR is necessary to evaluate whether OEM is successfully providing national leadership and assistance to local communities in preparing for and preventing chemical emergencies.

The Emergency Planning and Community Right-to-Know Act of 1986 (EPCRA) introduced a fundamental change in the regulation of chemical facilities and the prevention of and preparedness for chemical accidents. This law seeks to improve emergency preparedness and reduce the risk of chemical accidents by providing information to citizens about chemical hazards in their community. EPCRA is premised on the concept that the more informed local citizens are, the more involved they will become in prevention and preparedness activities. For this “informational regulation” to be effective, the public must receive accurate and reliable information that is easy to understand and practical to use.

EPCRA mandates the creation of LEPCs as a means for local government, law enforcement, health officials, and emergency responders to work with chemical facilities, the media and community groups to develop formal plans for responding to chemical emergencies.

LEPC activities include: Receiving chemical hazards data from facilities in their community and providing this information to the local public; developing local emergency response plans, which are annually reviewed, tested, and updated; serving as a point of contact for discussing and sharing information about hazardous substances, emergency planning, and health and environmental risk; and notifying the public of LEPC activities and other pertinent information.

In general, LEPCs provide local citizens an opportunity to participate actively in understanding chemical hazards, planning for emergency response and reducing the risk of chemical emergencies. To be judged effective, LEPCs must be compliant with the requirements of EPCRA and actively carry out these responsibilities. LEPC's level of satisfaction with the information, guidance, and support they receive will heavily influence their ability to fulfill their duties. The 2005 National Survey of LEPCs will collect information to evaluate the status and activity level of these planning bodies and their satisfaction with OEM products and services.

This proposed information collection builds upon previous assessments conducted by OEM. In 1999, a nationwide survey of LEPCs revealed various strengths and weaknesses among LEPCs. Since that time, no systematic nationwide measurement of the progress of LEPCs has been conducted. Over the past five years, local emergency planning has evolved, most notably, in the amount of information that is now available to assist LEPCs in preparing for and preventing chemical emergencies. In June 1999, this information expanded further with the addition of facility specific chemical hazards data and risk management plans made available under amendments to the Clean Air Act in 1990 (section 112(r)—the Risk Management Program Rule for the prevention of chemical accidents).

The primary goals of this research are to: (1) Track the progress of LEPCs by updating the 1999 baseline data on a series of key performance indicators; and (2) probe current LEPC practices and preferences regarding several important sets of issues, including: communications with local citizens, proactive accident prevention efforts, and the effectiveness of selected OEM products and services.

The EPA would like to solicit comments to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: OEM estimates that there will be 3,300 respondents to this information collection and each respondent will spend 15 minutes completing and submitting an on-line response form, for a total response of 825 hours. Based on an average hourly rate of $30.06 (an average hourly rate, including benefits, of both private and state employees), the survey developers expect that the average per-respondent cost for the pilot survey will be $7.51 and the corresponding one-time total cost to all respondents will be $24,800. Since this information collection is voluntary and does not involve any special equipment, respondents will not incur any capital or operation and maintenance (O&M) costs.

Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: September 2, 2005.
Deborah Y. Dietrich,
Director, Office of Emergency Management.

[FR Doc. 05-18091 Filed 9-12-05; 8:45 am]

BILLING CODE 6560-50-M